LEGAL SERVICES CORPORATION

Sunshine Act Meetings of the Board of Directors and Four of the Board's Committees

Times and Dates: The Legal Services Corporation Board of Directors and four of its Committees will meet February 4-5, 2005 in the order in which set forth in the following schedule.

Meeting Schedule

Friday, February 4, 2005

9 a.m.

1. Annual Performance Reviews Committee

2. Finance Committee

3. Provision for the Delivery of Legal Services Committee

4. Operations & Regulations Committee

Saturday, February 5, 2005

9:15 a.m.

1. Operations & Regulations Committee

2. Board of Directors

LOCATION: The Melrose Hotel, 2430 Pennsylvania Avenue, NW.

STATUS OF MEETINGS: Open, except as noted below.

• Status: February 4, 2005 Annual Performance Reviews Committee Meeting—Closed. The Performance Reviews Committee meeting will be closed to the public. The closing is authorized by the relevant provisions of the Government in the Sunshine Act [5 U.S.C. 552b(c)(2) and (6)] and the Legal Services Corporation's corresponding regulation 45 CFR 1622.5(a) and (e). A copy of the General Counsel's Certification that the closing is authorized by law will be available upon request.

• Status: February 5, 2005 Board of Directors Meeting—Open, except that a portion of the meeting of the Board of Directors may be closed pursuant to a vote of the Board of Directors to hold an executive session. At the closed session, the Corporation's General Counsel will report to the Board on litigation to which the Corporation is or may become a party, and the Board may act on the matters reported. The closing is authorized by 5 U.S.C. 552b(c)(2) and LSC's corresponding regulation 45 CFR 1622.5(a); 5 U.S.C. 552b(c)(6) and LSC's corresponding regulation 45 CFR 1622.5(e); 5 U.S.C. 552b(c)(7) and LSC's implementing regulation 45 CFR 1622.5(f)(4), and 5 U.S.C. 522b(c)(9)(B) and LSC's implementing regulation 45 CFR 1622.5(g); and 5 U.S.C. 552b(c)(10) and LSC's corresponding regulation 45 CFR 1622.5(h). A copy of the General Counsel's Certification that the closing is authorized by law will be available upon request.

Matters to be Considered:

Friday, February 4, 2005

Annual Performance Reviews Committee (February 4, 2004)

Closed Session

1. Approval of agenda

2. Approval of the minutes of the Executive Session of the Committee's meeting of November 19, 2004

3. Consider and act on internal procedures for annual performance evaluations of LSC President and Inspector General

4. Meet with Helaine Barnett

5. Consider and act on other business

Finance Committee

Open Session

1. Approval of agenda

2. Approval of the minutes of the Committee's meeting of November 20, 2004

3. Approval of the minutes of the Executive Session of the Committee's meeting of November 20, 2004

4. Presentation by Inspector General of the FY 2004 annual financial audit

5. Presentation of LSC's Financial Reports for the two-Month Period Ending November 30, 2004

6. Consider and act on the President's and Inspector General's recommendations for the FY 2005 Consolidated Operating Budget

7. Discussion of FY 2006 Budget Request

8. Review and act on a resolution to amend the LSC Flexible Benefits Plan

9. Report on Veterans Program

• David Isbell, Chair of the Veterans Consortium Pro Bono Program

• Chief Judge Ivers of the U.S. Court of Appeals for Veterans Claims

• Bristow Hardin, OPP Staff

10. Public comment

11. Consider and act on other business

12. Consider and act on adjournment of meeting

Closed Session

13. Briefing ¹ on OIG Budget

¹ Any portion of the closed session consisting solely of staff briefings does not fall within the Sunshine Act's definition of the term “meeting” and, therefore, the requirements of the Sunshine Act do not apply to any such portion of the closed session. 5 U.S.C. 552(b)(a)(2) and (b). See also 45 CFR 1622.2 and 1622.3.

Committee on Provision for the Delivery of Legal Services

1. Approval of agenda

2. Approval of the Committee's meeting minutes of November 19, 2004

3. Presentation on Mapping Project

• Introduction by Kirt West, Inspector General

• Report by David Maddox, OIG Staff

4. Presentation on Technology Initiative Grants

• Introduction by Michael Genz, Director, OPP

• Report by Joyce Raby and Glenn Rawdon, OPP Staff

5. Report on Mentoring Project

• Introduction by Helaine Barnett

• Report by members of the LSC Mentoring Committee

6. Public comment

7. Consider and act on other business

8. Consider and act on adjournment of meeting

Operations & Regulations Committee (February 4-5, 2005)

Open Session

1. Approval of agenda

2. Approval of the Committee's meeting minutes of November 19-20, 2004

3. Approval of the minutes of the Executive Sessions of the Committee's meetings of November 19-20, 2004

4. Consider and act on Notice of Proposed Rulemaking on Financial Eligibility, 45 CFR Part 1611

a. Staff report;

b. OIG's report; and

c. Public comment

5. Consider and act on Mr. Dean Andal's petition for rulemaking to amend LSC regulations on Class Actions, 45 CFR Part 1617

a. Staff report;

b. OIG's report; and

c. Public Comment

6. Briefing by OIG and OCE on Compliance Responsibilities

Closed Session

7. Briefing on Salaries and Benefits of LSC Employees

• Kirt West and Helaine Barnett

8. Inspector General's Briefing on the OIG's Review of the Lease for 3333 K Street

Open Session

9. Other public comment

10. Consider and act on other business

11. Consider and act on adjournment of meeting

Saturday, February 5, 2005

Operations & Regulations Committee (February 4-5, 2005)

Open Session

1. Approval of agenda

2. Approval of the Committee's meeting minutes of November 19-20, 2004

3. Approval of the minutes of the Executive Sessions of the Committee's meetings of November 19-20, 2004

4. Consider and act on Notice of Proposed Rulemaking on Financial Eligibility, 45 CFR Part 1611

d. Staff report;

e. OIG's report; and

f. Public comment

5. Consider and act on Mr. Dean Andal's petition for rulemaking to amend LSC regulations on Class Actions, 45 CFR Part 1617

b. Staff report;

b. OIG's report; and

c. Public Comment

6. Briefing by OIG and OCE on Compliance Responsibilities

Board of Directors Annual Meeting

Open Session

1. Consider and act on nominations for the Chairman of the Board of Directors

2. Consider and act on nominations for the Vice Chairman of the Board of Directors

3. Consider and act on delegation to Chairman of authority to make committee assignments

4. Approval of minutes of the Board's meeting of November 20, 2004

5. Approval of minutes of the Executive Session of the Board's meeting of November 20, 2004

6. Approval of minutes of the Executive Session of the Search Committee's meeting of July 19, 2004

7. Approval of minutes of the Executive Session of the Search Committee's meeting of August 12, 2004

8. Chairman's Report

9. Members' Reports

10. President's Report

11. Inspector General's Report

12. Consider and act on the report of the Committee on the Provision for the Delivery of Legal Services

13. Consider and act on the report of the Finance Committee

14. Consider and act on the report of the Operations & Regulations Committee

15. Consider and act on the report of the Annual Performance Reviews Committee

16. Consider and act on Board's meeting schedule for calendar year 2005

17. Report on LSC Pilot Loan Repayment Assistance Program (LRAP)

18. Consider and act on other business

19. Public comment

20. Consider and act on whether to authorize an executive session of the Board to address items listed below under Closed Session

Closed Session

21. Briefing by the Inspector General on the activities of the Office of Inspector General

22. Consider and act on General Counsel's report on potential and pending litigation involving LSC

23. Briefing on Board Travel Policies

24. Consider and act on motion to adjourn meeting

CONTACT PERSON FOR INFORMATION: Patricia D. Batie, Manager of Board Operations, at (202) 295-1500.

SPECIAL NEEDS: Upon request, meeting notices will be made available in alternate formats to accommodate visual and hearing impairments. Individuals who have a disability and need an accommodation to attend the meeting may notify Patricia D. Batie, at (202) 295-1500.

Dated: January 27, 2005.
Victor M. Fortuno,
Vice President for Legal Affairs, General Counsel & Corporate Secretary.

[FR Doc. 05-1781 Filed 1-27-05; 10:37 am]

BILLING CODE 7050-01-P